DEPARTMENT OF HEALTH AND HUMAN SERVICES

Meeting of the Advisory Committee on Minority Health; Cancellation

AGENCY: Office of Minority Health, Office of the Assistant Secretary for Health, Office of the Secretary, Department of Health and Human Services.

ACTION: Notice; Cancellation.

SUMMARY: A notice was published in the Federal Register on Tuesday, July 5, 2011, Vol. 76, No. 128, to announce that a meeting of the Advisory Committee on Minority Health (ACMH) was scheduled to be held on Monday, August 29, 2011 from 9 a.m. to 5 p.m., and Tuesday, August 30, 2011, from 9 a.m. to 1 p.m. This meeting has been cancelled in its entirety. The meeting was cancelled because of the weather projections that the Washington, DC metropolitan area would be affected by a significant hurricane. The meeting was cancelled to ensure the safety of the Committee members, Federal staff, and all other interested parties. Information about this meeting being rescheduled will be posted on the Committee's Web site, which can be accessed at http://minorityhealth.hhs.gov.

FOR FURTHER INFORMATION CONTACT: Ms. Monica A. Baltimore, Executive Director, ACMH; Suite 600 Tower Building, 1101 Wootton Parkway, Rockville, MD 20852. Telephone: (240) 453-2882; Fax: (240) 453-2883.

Dated: August 30, 2011.
Monica Baltimore,
Executive Director, Advisory Committee on Minority Health, Office of Minority Health, Office of the Assistant Secretary for Health.

[FR Doc. 2011-22659 Filed 9-2-11; 8:45 am]

BILLING CODE 4154-29-P